DEPARTMENT OF THE INTERIOR

National Park Service

[2253-665]

Notice of Inventory Completion: Longyear Museum of Anthropology, Colgate University, Hamilton, NY

AGENCY: National Park Service, Interior.

ACTION: Notice.

SUMMARY: The Longyear Museum of Anthropology has completed an inventory of a human remain, in consultation with the appropriate Indian tribes, and has determined that there is no cultural affiliation between the human remain and any present-day Indian tribe. Representatives of any Indian tribe that believes itself to be culturally affiliated with the human remain may contact the museum. Disposition of the human remain to the Indian tribes stated below may occur if no additional requestors come forward.

DATES: Representatives of any Indian tribe that believes it has a cultural affiliation with the human remain should contact the Longyear Museum of Anthropology at the address below by September 7, 2011.

ADDRESSES: Dr. Jordan Kerber, Longyear Museum of Anthropology, Department of Sociology and Anthropology, Colgate University, 13 Oak Dr., Hamilton, NY 13346, telephone (315) 228-7559.

SUPPLEMENTARY INFORMATION: Notice is here given in accordance with the Native American Graves Protection and Repatriation Act (NAGPRA), 25 U.S.C. 3003, of the completion of an inventory of a human remain in the possession of the Longyear Museum of Anthropology, Colgate University, Hamilton, NY. The human remain was removed from an unknown location in Arkansas.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remain was made by the Longyear Museum of Anthropology professional staff in consultation with representatives of the Osage Nation, Oklahoma, and the Quapaw Tribe of Indians, Oklahoma.

History and Description of the Remains

At an unknown date, a human remain—a single human distal phalanx or thumb tip—representing a minimum of one individual was removed from an unknown location in Arkansas. The bone is perforated at the proximal end and was acquired by the Longyear Museum of Anthropology between 1948 and 1979, and accessioned as part of the Howe Collection (Catalog number A234). The bone was subsequently assigned Index number 326 in the Colgate Collection database. No known individual was identified. No associated funerary objects are present.

The presence of other Native American artifacts in the Howe Collection at the Longyear Museum of Anthropology provides a reasonable basis for determining that the human remain belongs to a Native American individual.

Determinations Made by the Longyear Museum of Anthropology

Officials of the Longyear Museum of Anthropology have determined that:

• Pursuant to 25 U.S.C. 3001(2), a relationship of shared group identity cannot be reasonably traced between the Native American human remain and any present-day Indian tribe.

• According to final judgments of the Indian Claims Commission, the land from which the Native American human remain was removed is the aboriginal land of the Caddo Nation of Oklahoma; Osage Nation, Oklahoma; Quapaw Tribe of Indians, Oklahoma; and United Keetoowah Band of Cherokee Indians in Oklahoma.

• Other credible lines of evidence indicate that the land from which the Native American human remain was removed is the aboriginal land of the Caddo Nation of Oklahoma; Osage Nation, Oklahoma; Quapaw Tribe of Indians, Oklahoma; United Keetoowah Band of Cherokee Indians in Oklahoma; and Tunica-Biloxi Indian Tribe of Louisiana.

• Pursuant to 25 U.S.C. 3001(9), the human remain described in this notice represent the physical remains of one individual of Native American ancestry.

• Pursuant to 43 CFR 10.11(c)(1), the disposition of the human remain is to the Osage Nation, Oklahoma, and the Quapaw Tribe of Indians, Oklahoma.

Additional Requestors and Disposition

Representatives of any Indian tribe that believes itself to be culturally affiliated with the human remain or any other Indian tribe that believes it satisfies the criteria in 43 CFR 10.11(c)(1) should contact Dr. Jordan Kerber, Longyear Museum of Anthropology, Department of Sociology and Anthropology, Colgate University, 13 Oak Dr., Hamilton, NY 13346, telephone (315) 228-7559, before September 7, 2011. Disposition of the human remain to the Osage Nation, Oklahoma, and the Quapaw Tribe of Indians, Oklahoma, may proceed after that date if no additional requestors come forward.

The Longyear Museum of Anthropology is responsible for notifying the Caddo Nation of Oklahoma; Osage Nation, Oklahoma; Quapaw Tribe of Indians, Oklahoma; United Keetoowah Band of Cherokee Indians in Oklahoma; and Tunica-Biloxi Indian Tribe of Louisiana that this notice has been published.

Dated: August 2, 2011.
Sherry Hutt,
Manager, National NAGPRA Program.

[FR Doc. 2011-19989 Filed 8-5-11; 8:45 am]

BILLING CODE 4312-50-P